DEPARTMENT OF ENERGY

Federal Energy Regulatory Commission

[Docket Nos. CP88-391-027 and RP93-162-012, CP88-391-028 and RP93-162-013]

Transcontinental Gas Pipe Line Corporation; Notice of Annual Cash-Out Filing

October 23, 2002.

Take notice that on September 30, 2002, Transcontinental Gas Pipe Line Corporation (Transco) filed in Docket Nos. CP88-391-027 and RP93-162-012 its annual report of cash-out purchases for the period August 1, 2001 through July 31, 2002. The report was filed to comply with the cash-out provisions in Section 15 of the General Terms and Conditions of Transco's FERC Gas Tariff. Transco filed various Appendices with the annual cash-out report at A-1, A-2, B-1, B-2, and C-3.

Take notice that on October 11, 2002, Transco filed in Docket Nos. CP88-391-028 and RP93-162-013 to correct certain clerical errors in Appendixes A-1, A-2, and B-1 to its September 30 annual cash-out filing. Transco explains that Appendix A-1 sets forth the quantities purchased and sold for each shipper for cash-out purchases and sales during the Annual Cash-Out Period. Appendix A-2 sets forth the amounts paid to or by each shipper for cash-out purchases and sales during the Annual Cash-Out Period. Appendix B-1 sets forth the quantities purchased and sold for each shipper for cash-out purchases and sales under each Pipeline Interconnect Balance Agreement (PIBA) on Transco's system during the Annual Cash-out Period. In order to correct the clerical errors, Transco submitted revised Appendices A-1, A-2, and B-1 to its Annual Cash-Out Report filed on September 30. Transco asserts that for the convenience of the Commission and interested Parties, it also included the appendices of the September 30 filing which are not being revised: Appendix B-2 which sets forth the amount purchased and sold for each shipper for cash-out purchases and sales under each PIBA and Appendix C-1 which compares Transco's cash-out and PIBA revenues received with costs incurred on a monthly basis for the current annual billing period.

Transco states that the report shows that for the annual cash-out period ending July 31, 2002, Transco has a net underrecovery of $22,908,461. Transco alleges that in accordance with Section 15 of its tariff it will carry forward such net underrecovery to offset any net overrecovery that may occur in future cash-out periods.

Any person desiring to be heard or to protest said filing should file a motion to intervene or a protest with the Federal Energy Regulatory Commission, 888 First Street, NE., Washington, DC 20426, in accordance with Sections 385.214 or 385.211 of the Commission's Rules and Regulations. All such motions or protests must be filed by November 4, 2002, in accordance with Section 154.210 of the Commission's Regulations. Protests will be considered by the Commission in determining the appropriate action to be taken, but will not serve to make protestants parties to the proceedings.

Any person wishing to become a party must file a motion to intervene. This filing is available for review at the Commission in the Public Reference Room or may be viewed on the Commission's website at http://www.ferc.gov using the “FERRIS” link. Enter the docket number excluding the last three digits in the docket number field to access the document. For Assistance, call (202) 502-8222 or for TTY, (202) 502-8659. Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-27450 Filed 10-28-02; 8:45 am]

BILLING CODE 6717-01-P